LEGAL SERVICES CORPORATION

Sunshine Act Meeting of the Board of Directors Provision for the Delivery of Legal Services Committee

Time and Date: The Provision for the Delivery of Legal Services Committee of the Legal Services Corporation Board of Directors will meet April 30, 2004. The meeting will begin at 2:30 p.m. and continue until completion of the Committee's agenda.

Location: University of Baltimore Law Center, Moot Court Room, 1420 North Charles Street, Baltimore, Maryland 21201

Special Notice: Please note that meetings of the Board of Directors will be held at a different location on Saturday, May 1, 2004.

Status of Meeting: Open.

Matters To Be Considered:

Open Session

1. Approval of agenda.

2. Approval of the minutes of the Committee's meeting of January 30, 2004.

3. Presentation on Quality in Legal Services:

a. Presentation by Hannah Lieberman, Director of Advocacy, Legal Aid Bureau of Maryland.

b. Presentation by Susan Erlichman, Executive Director of the Maryland Legal Services Corporation Interest on Lawyer Trust Account Program.

c. Presentation by Ayn Crawley, Director of the Maryland Legal Assistance Network, on promoting and maintaining a high quality legal services delivery system in the State of Maryland.

4. Report by LSC President Helaine M. Barnett on the status of LSC's efforts and possible new approaches for promoting quality in the LSC-funded legal services delivery system.

5. Reports by OPP Technology Initiative Grant (“TIG”) staff on using technology to enhance the delivery of legal services by improving quality and enhancing access.

6. Public comment.

7. Consider and act on other business.

8. Consider and act on adjournment of meeting.

FOR FURTHER INFORMATION CONTACT: Patricia D. Batie, Manager of Board Operations, at (202) 295-1500.

Special Needs: Upon request, meeting notices will be made available in alternate formats to accommodate visual and hearing impairments. Individuals who have a disability and need an accommodation to attend the meeting may notify Patricia D. Batie, at (202) 295-1500.

Dated: April 21, 2004.
Victor M. Fortuno,
Vice President for Legal Affairs, General Counsel & Corporate Secretary,

[FR Doc. 04-9430 Filed 4-21-04; 1:08 pm]

BILLING CODE 7050-01-P